ENVIRONMENTAL PROTECTION AGENCY

[EPA-HQ-OPP-2023-0270; FRL-10998-01-OCSPP]

Implementation of PRIA 5 Bilingual Labeling Requirements To Make Bilingual Pesticide Labeling Accessible to Farmworkers; Request for Comments

AGENCY: Environmental Protection Agency (EPA).

ACTION: Notice.

SUMMARY: The Pesticide Registration Improvement Act of 2022 (PRIA 5) requires the U.S. Environmental Protection Agency (EPA) to begin to seek stakeholder input on ways to make bilingual pesticide labeling accessible to farmworkers by June 30, 2023, and to implement a plan to ensure that farmworkers have access to the bilingual pesticide labeling by December 2025. EPA hosted the Bilingual Pesticide Labeling National Webinar on June 15, 2023 and is opening a docket to receive written public comments. The purpose of the public comment period is to obtain feedback from stakeholders on ways to make bilingual pesticide labeling accessible to farmworkers to aid in the development of a plan to ensure that farmworkers have access to the bilingual pesticide labeling. Public input that includes environmental justice perspectives with solutions will be key in helping the Agency develop a strong starting point for addressing historical disadvantages for farmworkers.

DATES: Submit your comments on or before August 21, 2023.

ADDRESSES: Submit your comments, identified by docket identification (ID) number EPA-HQ-OPP-2023-0270, through the Federal eRulemaking Portal at https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Susan Bartow, Office of Chemical Safety and Pollution Prevention, Pesticide Re-evaluation Division (7508M), Environmental Protection Agency, 1200 Pennsylvania Ave. NW, Washington, DC 20460-0001; telephone number: (202) 566-2280; email address: OPPbilinguallabels@epa.gov.

SUPPLEMENTARY INFORMATION:

I. General Information

A. Does this action apply to me?

This notice is directed to the general public and may be of specific interest to persons (e.g., industry, non-governmental organizations (NGOs), farmworkers, and academia) who are interested in making bilingual pesticide labeling accessible to farmworkers. Because other entities may also be interested in this notice, the agency has not attempted to describe all the specific entities that may be interested in this subject. If you have any questions regarding the applicability of this action to a particular entity, contact the person listed under FOR FURTHER INFORMATION CONTACT.

B. What should I consider as I prepare my comments for EPA?

1. Submitting CBI. Do not submit CBI information to EPA through regulations.gov or email. Clearly mark the part or all of the information that you claim to be CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see Tips for Effective Comments at https://www.epa.gov/dockets. Please note that once submitted, comments cannot be edited or removed from the docket. The EPA may publish any comment received to its public docket.

II. Background

A. What is the Agency's authority for taking this action?

The Federal, Insecticide, Fungicide, and Rodenticide Act (FIFRA) section 3(f)(5)(D) requires EPA to seek stakeholder input on ways to make bilingual labeling accessible to farmworkers.

B. What action is the Agency taking?

The Pesticide Registration Improvement Act of 2022 (PRIA 5), enacted on December 29, 2022, amended FIFRA requiring Spanish language translation for sections of the end-use pesticide product labels where translation is available in the EPA Spanish Translation Guide for Pesticide Labeling. The Spanish Translation Guide is located at: https://www.epa.gov/pesticide-labels/spanish-translation-guide-pesticide-labeling. It contains translations of the health and safety portions of pesticide product labels. Specifically, it has Spanish translations of the “keep out of reach of children” statement, the restricted use pesticide statement for restricted use products, the signal word, the first aid section, the precautionary statement section, the personal protective equipment section, the misuse statement, and the storage and disposal statements. It also has examples of pesticide product label language for the agricultural use requirements section (including restricted entry interval information) and precautionary statements.

PRIA 5 requires that the Spanish language translation for sections of the end-use pesticide product labels (where translation is available in the EPA Spanish Translation Guide) must appear on the pesticide product container or a link to such translation via scannable technology or other electronic methods readily accessible on the product label. These translations are required on a rolling schedule from December 2025 to December 2030 depending on the type of pesticide product and the toxicity category.

PRIA 5 also requires EPA to begin to seek stakeholder input on ways to make bilingual pesticide labeling accessible to farmworkers by June 30, 2023, and to implement a plan to ensure that farmworkers have access to the bilingual pesticide labeling by December 2025.

On June 15, 2023, EPA hosted the Bilingual Pesticide Labeling National Webinar to obtain input from the public on ways to make bilingual pesticide labeling accessible to farmworkers as required by the Pesticide Registration Improvement Act of 2022. EPA is now opening a comment period for 60 days through a Federal Register Notice. The purpose of the public comment period is to obtain feedback from stakeholders on ways to make bilingual pesticide labeling accessible to farmworkers to aid in the development of a plan to ensure that farmworkers have access to the bilingual pesticide labeling. Public input that includes environmental justice perspectives with solutions will be key in helping the Agency develop a strong starting point for addressing historical disadvantages for farmworkers.

C. What feedback does EPA hope to gain from the public comments?

The Agency is interested in suggestions focusing on how to make bilingual pesticide labeling accessible to farmworkers. We are not seeking input or comments about any specific products or other topics outside of that scope. Here are some questions to consider as you provide feedback to EPA on making bilingual pesticide labeling accessible to farmworkers:

• What communication approaches, processes or strategies should the Agency consider to ensure bilingual pesticide labels are accessible to farmworkers? What specific approaches should the Agency avoid or adopt when implementing efforts to best ensure access by farmworkers to bilingual pesticide labels?

• What technologies, mobile applications, and internet access should the Agency consider? Would web-based labels be accessible to farmworkers? How should the Agency overcome internet connectivity issues that some farmworkers may face?

• How can the Agency effectively share health and safety information on pesticide labels with farmworkers? What should on-the-ground logistics look like? Which entities (e.g., community-based organizations) should the Agency work with to provide label information to farmworkers?

• As the Agency implements actions to meet this requirement, how can EPA effectively increase farmworker access to bilingual pesticide labels (e.g., communication plans, outreach strategies)?

D. How is EPA seeking public comments?

EPA is seeking public comments through several planned activities including through this Federal Register document, EPA is soliciting comment on the questions posed in Unit II.B. Following the close of the comment period, EPA will consider comments received during the public webinar and public comment period in the development of a plan to ensure that farmworkers have access to the bilingual pesticide labeling.

Authority: 7 U.S.C. 136 et seq.

Dated: June 13, 2023.
Michal Freedhoff,
Assistant Administrator.

[FR Doc. 2023-13013 Filed 6-16-23; 8:45 am]

BILLING CODE 6560-50-P